DEPARTMENT OF TRANSPORTATION

Federal Aviation Administration

14 CFR Part 39

[Docket No. FAA-2018-0455; Product Identifier 2017-NM-121-AD; Amendment 39-19436; AD 2018-20-02]

RIN 2120-AA64

Airworthiness Directives; Airbus SAS Airplanes

AGENCY: Federal Aviation Administration (FAA), Department of Transportation (DOT).

ACTION: Final rule.

SUMMARY: We are superseding Airworthiness Directive (AD) 98-18-24, which applied to certain Airbus SAS Model A320 series airplanes. AD 98-18-24 required repetitive inspections to detect cracking in the inner flange of a certain door frame, and corrective actions, if necessary. AD 98-18-24 also provided an optional terminating action for the repetitive inspections. This AD continues to require the repetitive inspections of the inner flange of a certain door frame, with reduced repetitive inspection intervals, and corrective action if necessary. This AD was prompted by a report of cracks on the inner flange of a certain door frame, and by the results of a full scale fatigue test that indicated the intervals for the repetitive inspections required by AD 98-18-24 must be reduced. We are issuing this AD to address the unsafe condition on these products.

DATES: This AD is effective November 2, 2018.

The Director of the Federal Register approved the incorporation by reference of certain publications listed in this AD as of November 2, 2018.

ADDRESSES: For service information identified in this final rule, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2018-0455.

Examining the AD Docket

You may examine the AD docket on the internet at http://www.regulations.gov by searching for and locating Docket No. FAA-2018-0455; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA; 2200 South 216th St., Des Moines, WA 98198; telephone and fax 206-231-3223.

SUPPLEMENTARY INFORMATION:

Discussion

We issued a notice of proposed rulemaking (NPRM) to amend 14 CFR part 39 to supersede AD 98-18-24, Amendment 39-10740 (63 FR 49272, September 15, 1998) (“AD 98-18-24”). AD 98-18-24 applied to certain Airbus SAS Model A320 series airplanes. The NPRM published in the Federal Register on May 30, 2018 (83 FR 24690). The NPRM was prompted by a report of cracks on the inner flange of door frame 66 at stringer positions 18 and 20, and by the results of a full scale fatigue test that indicated the intervals for the repetitive inspections required by AD 98-18-24 must be reduced. The NPRM proposed to continue to require the repetitive inspections of the inner flange of a certain door frame, with reduced repetitive inspection intervals, and corrective actions if necessary. We are issuing this AD to address fatigue cracking in the inner flange of door frame 66, which could result in reduced structural integrity of the airplane.

The European Aviation Safety Agency (EASA), which is the Technical Agent for the Member States of the European Union, has issued EASA AD 2017-0128, dated July 24, 2017 (referred to after this as the Mandatory Continuing Airworthiness Information, or “the MCAI”), to correct an unsafe condition for certain Airbus SAS Model A320-211 and A320-231 airplanes. The MCAI states:

During fatigue test on simulated flights, cracks developed on the inner flange of door frame 66 at stringer 18 and 20 positions. These cracks were located in the gusset plate attachment holes and were hidden by the plates.

This condition, if not detected and corrected, could affect the structural integrity of the fuselage.

To address this potential unsafe condition, Airbus issued Service Bulletin (SB) A320-53-1071, later revised, to provide instructions to inspect and repair the gusset plate attachment holes at frame 66, at stringers 18, 20 and 22 both left hand (LH) and right hand (RH) side of the fuselage (hereafter collectively referred to as “the attachment holes” in this [EASA] AD), and [Airbus] SB A320-53-1072, providing instructions for reworking of the attachment holes.

Consequently, DGAC France issued [French] AD 1996-234-087, later revised [which corresponds to FAA AD 98-18-24], requiring repetitive inspections and, depending on findings, repair of the attachment holes, and including reference to a reworking procedure, which constitutes optional terminating action for the repetitive inspections of the attachment holes.

Since that [French] AD was issued, based on results from a full scale fatigue test, it was determined that the inspection intervals must be reduced. Airbus issued SB A320-53-1071 Revision 03, modifying the inspection threshold and intervals, and not changing the inspection instructions.

For the reason described above, this [EASA] AD retains the requirement of DGAC France AD 1996-234-087 R1, which is superseded, and requires reduction of the repetitive inspection interval.

You may examine the MCAI in the AD docket on the internet at http://www.regulations.gov by searching for and locating Docket No. FAA-2018-0455.

Comments

We gave the public the opportunity to participate in developing this final rule. We received no comments on the NPRM or on the determination of the cost to the public.

Conclusion

We reviewed the relevant data and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Airbus has issued Service Bulletin A320-53-1071, Revision 03, dated July 20, 2017. This service information describes procedures for detailed inspections of the gusset plate attachment holes at door frame 66 for cracking and corrective action.

Airbus also issued Service Bulletin A320-53-1072, Revision 02, dated May 5, 2016. This service information describes procedures for modification of the gusset frame attachment at door frame 66.

This service information is reasonably available because the interested parties have access to it through their normal course of business or by the means identified in the ADDRESSES section.

Costs of Compliance

We estimate that this AD affects 3 airplanes of U.S. registry.

The actions required by AD 98-18-24, and retained in this AD, take about 8 work-hours per product, at an average labor rate of $85 per work-hour. Based on these figures, the estimated cost of the actions that are required by AD 98-18-24 is $680 per product.

We estimate that it would take about 19 work-hours per product to comply with the basic requirements of this AD. The average labor rate is $85 per work-hour. Based on these figures, we estimate the cost of this AD on U.S. operators to be $4,845, or $1,615 per product.

We have received no definitive data that would enable us to provide cost estimates for the on-condition actions specified in this AD.

In addition, we estimate that the optional terminating action would take about 20 work-hours per product, at an average labor rate of $85 per work-hour. Required parts costs would be about $60. Based on these figures, the estimated cost of the optional terminating action would be $1,760 per product.

We also estimate that it would take about 1 work-hour per product to comply with the proposed reporting requirement in this AD. The average labor rate is $85 per hour. Based on these figures, we estimate the cost of reporting the inspection results on U.S. operators to be $255, or $85 per product.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-18-24, Amendment 39-10740 (63 FR 49272, September 15, 1998), and adding the following new AD:

2018-20-02 Airbus SAS: Amendment 39-19436; Docket No. FAA-2018-0455; Product Identifier 2017-NM-121-AD.

(a) Effective Date

This AD is effective November 2, 2018.

(b) Affected ADs

This AD replaces AD 98-18-24, Amendment 39-10740 (63 FR 49272, September 15, 1998) (“AD 98-18-24”).

(c) Applicability

This AD applies to Airbus SAS Model A320-211 and Model A320-231 airplanes, certificated in any category, serial numbers 0029, 0045, 0046, 0049 through 0057 inclusive, 0059, 0064, and 0065.

(d) Subject

Air Transport Association (ATA) of America Code 53, Fuselage.

(e) Reason

This AD was prompted by a report of cracks on the inner flange of door frame 66 at stringer positions 18 and 20, and by the results of a full scale fatigue test that indicated the intervals for the repetitive inspections required by AD 98-18-24 must be reduced. We are issuing this AD to address fatigue cracking in the inner flange of door frame 66, which could result in reduced structural integrity of the airplane.

(f) Compliance

Comply with this AD within the compliance times specified, unless already done.

(g) Retained Eddy Current Inspection, With No Changes

This paragraph restates the requirements of paragraph (a) of AD 98-18-24, with no changes. For Model A320 series airplanes on which Airbus Modification 21778 (reference Airbus Service Bulletin A320-53-1072, dated November 7, 1995, as revised by Change Notice 0A, dated July 5, 1996) has not been accomplished: Prior to the accumulation of 20,000 total flight cycles, or within 1 year after October 20, 1998 (the effective date of AD 98-18-24), whichever occurs later: Perform a rotating probe eddy current inspection to detect cracking around the edges of the gusset plate attachment holes of the inner flange of door frame 66, left and right, at stringer positions P18, P20, and P22, in accordance with Airbus Service Bulletin A320-53-1071, dated November 7, 1995, as revised by Change Notice 0A, dated July 5, 1996. If any crack is detected, prior to further flight, repair in accordance with a method approved by the Manager, International Section, Transport Standards Branch, FAA. Repeat the inspection thereafter at intervals not to exceed 20,000 flight cycles.

(h) Retained Optional Terminating Action, With No Changes

This paragraph restates the optional terminating action of paragraph (b) of AD 98-18-24, with no changes. Modification of the gusset plate attachment holes of the inner flange of door frame 66, left and right (Airbus Modification 21778), in accordance with Airbus Service Bulletin A320-53-1072, dated November 7, 1995, as revised by Change Notice 0A, dated July 5, 1996, constitutes terminating action for the repetitive inspection requirements of paragraph (g) of this AD.

(i) New Requirement of This AD: Repetitive Inspections

At the applicable compliance time specified in figure 1 to paragraph (i) of this AD, do a rotating probe eddy current inspection to detect cracking around the edges of the gusset plate attachment holes of the inner flange of door frame 66, left and right, in accordance with the Accomplishment Instructions of Airbus Service Bulletin A320-53-1071, Revision 03, dated July 20, 2017. Repeat the inspection thereafter at intervals not to exceed 10,900 flight cycles.

(j) Corrective Actions

(1) If, during any inspection required by paragraph (i) of this AD, any crack is found on a gusset plate attachment hole: Before further flight, repair the affected attachment hole, in accordance with the Accomplishment Instructions of Airbus Service Bulletin A320-53-1071, Revision 03, dated July 20, 2017, except as required by paragraph (n) of this AD.

(2) If, during any inspection required by paragraph (i) of this AD, any crack is found on any other hole of the gusset plate: Before further flight, contact the Manager, International Section, Transport Standards Branch, FAA; or the European Aviation Safety Agency (EASA); or Airbus's EASA Design Organization Approval (DOA); for approved repair instructions and accomplish those instructions accordingly. If approved by the DOA, the approval must include the DOA-authorized signature.

(k) Terminating Action for This AD

(1) Repair of a gusset plate attachment hole area as required by paragraph (j)(1) of this AD terminates the repetitive inspections required by paragraph (i) of this AD for that attachment hole area on that airplane only.

(2) Repair of any other hole of the gusset plate, as required by paragraph (j)(2) of this AD, does not terminate the repetitive inspections required by paragraph (i) of this AD for that airplane, unless specified otherwise in the repair instructions provided by the Manager, International Section, Transport Standards Branch, FAA; or the EASA; or Airbus's EASA DOA.

(3) Accomplishing the initial inspection required by paragraph (i) of this AD terminates the inspections required by paragraph (g) of this AD.

(l) Optional Modification

Modification of the gusset plate attachment holes of the inner flange of door frame 66, left and right, in accordance with the Accomplishment Instructions of Airbus Service Bulletin A320-53-1072, Revision 02, dated May 5, 2016, terminates the repetitive inspections required by paragraph (i) of this AD for that airplane.

(m) Reporting

Report the results of the inspection required by paragraph (i) of this AD that are done on or after the effective date of this AD to Airbus Service Bulletin Reporting Online Application on Airbus World (https://w3.airbus.com/), or submit the results to Airbus in accordance with the instructions of Airbus Service Bulletin A320-53-1071, Revision 03, dated July 20, 2017. Submit the report within 30 days after accomplishing the inspection required by paragraph (i) of this AD. The report must include the inspection results, a description of any discrepancies found, the airplane serial number, and the number of landings and flight hours on the airplane. If operators have reported findings as part of obtaining any corrective actions approved by the EASA DOA, operators are not required to report those findings as specified in this paragraph.

(n) Service Information Exception

Where Airbus Service Bulletin A320-53-1071, Revision 03, dated July 20, 2017, specifies to contact Airbus for appropriate action, and specifies that action as “RC” (Required for Compliance): Before further flight, accomplish corrective actions in accordance with the procedures specified in paragraph (q)(2) of this AD.

(o) Credit for Previous Actions

(1) This paragraph provides credit for actions required by paragraph (i) of this AD, if those actions were performed before the effective date of this AD using Airbus Service Bulletin A320-53-1071, Revision 01, dated July 4, 2002; or Airbus Service Bulletin A320-53-1071, Revision 02, dated May 5, 2016.

(2) This paragraph provides credit for actions identified in paragraph (l) of this AD, if those actions were performed before the effective date of this AD using Airbus Service Bulletin A320-53-1072, dated November 7, 1995, as revised by Change Notice 0A, dated July 5, 1996; or Airbus Service Bulletin A320-53-1072, Revision 01, dated July 4, 2002.

(p) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(q) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (r)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 98-18-24 are approved as AMOCs for the corresponding provisions of this AD.

(2) Contacting the Manufacturer: As of the effective date of this AD, for any requirement in this AD to obtain corrective actions from a manufacturer, the action must be accomplished using a method approved by the Manager, International Section, Transport Standards Branch, FAA; or the EASA; or Airbus SAS's EASA DOA. If approved by the DOA, the approval must include the DOA-authorized signature.

(3) Required for Compliance (RC): Except as required by paragraph (n) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(r) Related Information

(1) Refer to Mandatory Continuing Airworthiness Information (MCAI) EASA AD 2017-0128, dated July 24, 2017, for related information. This MCAI may be found in the AD docket on the internet at http://www.regulations.gov by searching for and locating Docket No. FAA-2018-0455.

(2) For more information about this AD, contact Sanjay Ralhan, Aerospace Engineer, International Section, Transport Standards Branch, FAA; 2200 South 216th St., Des Moines, WA 98198; telephone and fax 206-231-3223.

(3) Service information identified in this AD that is not incorporated by reference is available at the addresses specified in paragraphs (s)(3) and (s)(4) of this AD.

(s) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1071, Revision 03, dated July 20, 2017.

(ii) Airbus Service Bulletin A320-53-1072, Revision 02, dated May 5, 2016.

(3) For service information identified in this AD, contact Airbus SAS, Airworthiness Office—EIAS, Rond-Point Emile Dewoitine No: 2, 31700 Blagnac Cedex, France; telephone +33 5 61 93 36 96; fax +33 5 61 93 44 51; email account.airworth-eas@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on September 13, 2018.
Michael Kaszycki,
Acting Director, System Oversight Division, Aircraft Certification Service.

[FR Doc. 2018-20951 Filed 9-27-18; 8:45 am]

BILLING CODE 4910-13-P